DEPARTMENT OF COMMERCE

National Oceanic and Atmospheric Administration

RIN 0648-XS13

Marine Mammals; File No. 87-1743

AGENCY: National Marine Fisheries Service (NMFS), National Oceanic and Atmospheric Administration (NOAA), Commerce.

ACTION: Notice; issuance of permit amendment.

SUMMARY: Notice is hereby given that Daniel P. Costa, Ph.D., Long Marine Laboratory, University of California at Santa Cruz, 100 Shaffer Road, Santa Cruz, California 95060, has been issued a minor amendment to Scientific Research Permit No. 87-1743.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Amy Sloan or Tammy Adams, (301)713-2289.

SUPPLEMENTARY INFORMATION: The requested amendment has been granted under the authority of the Marine Mammal Protection Act of 1972, as amended (16 U.S.C. 1361 et seq.) and the regulations governing the taking and importing of marine mammals (50 CFR part 216).

The original permit (No. 87-1743-00), issued on September 17, 2004 (69 FR 56999), authorized long-term behavioral, physiological, and life history research studies on northern elephant seals (Mirounga angustirostris) through September 30, 2009. This permit was subsequently amended on four occasions through minor amendments.

This minor amendment (Permit No. 87-1743-05) extends the duration of the permit through September 30, 2010 with no increase in the number of animals that may be taken. Permit No. 87-1743-05 also authorizes a minor change to permitted methods for a physiological study to allow researchers to substitute one instrument, a thermister, for another instrument, a Doppler flow sensor, but does not change any other terms or conditions of the permit.

In compliance with the National Environmental Policy Act of 1969 (42 U.S.C. 4321 et seq.), a supplemental environmental assessment (SEA) was prepared to analyze the effects of issuing the amendment. Based on the analysis, NMFS determined that issuance of the permit amendment would not significantly impact the quality of the human environment and that preparation of an environmental impact statement was not required. That determination is documented in a finding of no significant impact, signed on September 30, 2009.

Dated: October 5, 2009.
P. Michael Payne,
Chief, Permits, Conservation and Education Division, Office of Protected Resources, National Marine Fisheries Service.

[FR Doc. E9-24453 Filed 10-8-09; 8:45 am]

BILLING CODE 3510-22-S